DEPARTMENT OF JUSTICE

Bureau of Justice Statistics

[OJP(BJS)-1370]

2003 Sample Survey of Law Enforcement Agencies

AGENCY: Bureau of Justice Statistics, Office of Justice Programs, Justice.

ACTION: Notice of solicitation.

SUMMARY: The purpose of this notice is to announce a public solicitation to obtain a data collection agent for the 2003 Sample Survey of Law Enforcement Agencies.

DATES: Proposals must be received at the Bureau of Justice Statistics (BJS) on or before 5 p.m. EST, May 12, 2003 or be postmarked on or before May 12, 2003.

ADDRESSES: Proposals should be sent to Application Coordinator, Bureau of Justice Statistics, 810 Seventh Street, NW., Washington, DC 20531; T: (202) 616-3497. Due to recent interruptions in mail service, it is recommended that applicants fax (202) 616-1351), e-mail (hickmanm@ojp.usdoj.gov), use a professional delivery service (e.g., FedEx, UPS, etc.), or personally deliver applications, to ensure timely receipt.

FOR FURTHER INFORMATION CONTACT: Matthew Hickman, Statistician, Bureau of Justice Statistics, 810 Seventh Street, NW., Washington, DC 20531; Phone (202) 353-1631 (This is not a toll free number); Email: hickmanm@ojp.usdoj.gov.

Authority: 42 U.S.C. 3732.

SUPPLEMENTARY INFORMATION:

Program Goals

The purpose of this award is to provide funding to administer the 2003 Sample Survey of Law Enforcement Agencies (SSLEA). This data collection is part of the Law Enforcement Management and Administrative Statistics (LEMAS) program, a recurring survey series that collects information from a nationally representative sample of law enforcement agencies. The survey will obtain information about law enforcement personnel, equipment, policies and programs, operations, terrorism/mass disaster response, computers and information systems, and other topics. The initial survey instrument and respondent list will be provided by the Bureau of Justice Statistics (BJS). It is anticipated that approximately 2,000 respondents will answer a 4-page questionnaire, and an additional 1,000 respondents will answer an 8-page questionnaire.

BJS anticipates making one award for a 12-month period under this solicitation.

Background

The LEMAS program is currently the most systematic and comprehensive source of national data on law enforcement personnel, expenditures and pay, operations, equipment, computers and information systems, and policies and procedures. Findings from the LEMAS program are designed to provide a broad picture of the current state of law enforcement in America, as well as to document both existing and emerging trends. Previous LEMAS surveys have been conducted in 1987, 1990, 1993, 1997, 1999, and 2000. Data-sets and reports for these prior collections are available on the BJS Web site at http://www.ojp.usdoj.gov/bjs. Recently released reports from the latest survey are available from the BJS Web site, Local Police Departments, 2000, at http://www.ojp.usdoj.gov/bjs/abstract/lpd00.htm, and Sheriffs' Offices, 2000, at http://www.ojp.usdoj.gov/bjs/abstract/so00.htm.

The 2003 survey will add to the existing series by including questions related to terrorism/mass disaster response, and other current topic areas. This will provide important information for the development and expansion of law enforcement activity, and the information will be useful for policy-makers engaged in research, planning, and budgeting.

Eligibility Requirements

Both profit-making and nonprofit organizations may apply for funds. Consistent with OJP fiscal requirements, however, no fees may be charged against the project by profit-making organizations.

Scope of Work

The objective of this project is to complete data collection for the 2003 Sample Survey of Law Enforcement Agencies. This includes extensive follow-up, data verification, coding and data entry, and delivery of a final data set and documentation. The initial survey instrument and respondent list will be provided by BJS. Specifically, the recipient of funds will:

1. Develop a detailed timetable for each task in the project. Data collection should begin within three months of the project start and be completed within twelve months. After the BJS project manager has agreed to the timetable, all work must be completed as scheduled.

2. Conduct a pre-test of the survey instrument in a minimum of five sites to assure that survey items are perceived by respondents as intended and can be provided in a timely manner. This task will be performed with participation of BJS staff.

3. Mail surveys to respondents and provide extensive follow-up to respondents that require help, clarification, or encouragement to complete the survey. This may involve multiple follow-up telephone calls, re-mailing or re-faxing surveys, e-mail correspondence, and site visits where necessary.

4. Develop an Internet-based or other electronic transmission option for responding to the survey.

5. Implement and maintain an automated system to provide ongoing status of each survey respondent, complete documentation, and an inventory of follow-up communication and procedures for each case. This automated tracking system should remain current and be accessible to the BJS project monitor at all times.

6. Identify techniques necessary to achieve a 90 percent or greater survey response rate. Response rates for previous LEMAS surveys have ranged from 92.6 percent to 97.8 percent.

7. Identify techniques necessary to achieve a 90 percent or greater survey item response rate. The data collection agent will have routine contact with the agencies and must be knowledgeable about the content of the instrument.

8. Deliver to BJS electronic versions of the survey data, and documentation on diskette and in ASCII file format. Survey documentation should include, but is not limited to, a comprehensive codebook detailing variable positions, data coding, variable and value labels, any recoding implemented during the data cleaning process, and copies of all program code used to generate data or published statistics. All data generated by this project belongs to BJS. Publication, presentation, or dissemination of the data in any form, prior to official release by BJS, is prohibited. All data and documentation from this survey will be accessible through the BJS website, and the data will be archived at the Inter-University Consortium for Political and Social Research (ICPSR).

Award Procedures and Evaluation Criteria

Proposals should describe the plan and implementation strategies outlined in the Scope of Work. Information on staffing levels and qualifications should be included for each task, as well as descriptions of experience relevant to the project. Resumes of the proposed project director and key staff should be enclosed with the proposal.

Applications will be reviewed competitively with the final award decision made by the Director of BJS. The applicant will be evaluated on the basis of:

1. Demonstrated knowledge of applied survey research, including survey construction, interview techniques, data collection, data coding, entry and verification, and the production of public use data files. This includes availability of an adequate computing environment, knowledge of standard social science data processing software, and demonstrated ability to produce SPSS readable data files for analysis and report production.

2. Demonstrated ability and experience in collecting data from law enforcement agencies or similar entities.

3. Demonstrated fiscal, management, staff, and organizational capacity to provide sound management for this project. Applicant should include detailed staff resources and other costs by project tasks.

Application and Award Process

An original and two (2) copies of the full proposal must be submitted including:

• Standard Form 424, Application for Federal Assistance.

• OJP Form 7150/1, Budget Detail Worksheet.

• OJP Form 4000/3, Program Narrative and Assurances.

• OJP Form 4061/6, Certification regarding Lobbying, Debarment, Suspension, and Other Responsibility Matters; Drug Free Workplace requirements.

• OJP Form 7120-1, Accounting System and Financial Capability Questionnaire (to be submitted by applicants who have not previously received Federal Funds from the Office of Justice Programs).

These forms can be obtained online from http://www.ojp.usdoj.gov/forms.htm.

In addition, fund recipients are required to comply with regulations designed to protect human subjects and ensure confidentiality of data. In accordance with 28 CFR part 22, a Privacy Certificate must be submitted to BJS. Furthermore, a Screening Sheet for Protection of Human Subjects must be completed prior to the award being issued. Questions regarding Protection of Human Subjects and/or Privacy Certificate requirements can be directed to the Human Subjects Protection Officer (HSPO) at (202) 616-3282 (This is not a toll free number).

Proposals must include a project description and detailed budget. The project narrative should describe activities as discussed in the Scope of Work and address the evaluation criteria. The project narrative should contain a detailed timeline for project activities, a description of the survey methodology to be used, including defined geographic boundaries, data collection method, data entry, and data documentation procedures. The detailed budget must provide detailed costs, including salaries of staff involved in the project and the portion of those salaries to be paid from the award, fringe benefits paid to each staff person, travel costs, supplies required for the project, sub-contractual agreements, and other allowable costs. The grant will be made for a period of 12 months.

Dated: April 4, 2003.
Lawrence A. Greenfeld,
Director, Bureau of Justice Statistics.

[FR Doc. 03-8900 Filed 4-10-03; 8:45 am]

BILLING CODE 4410-18-P